ENVIRONMENTAL PROTECTION AGENCY

[EPA-HQ-OAR-2007-1138; FRL-9920-81-OEI]

Information Collection Request Submitted to OMB for Review and Approval; Comment Request; Importation of Nonroad Engines and Recreational Vehicles (Renewal)

AGENCY: Environmental Protection Agency.

ACTION: Notice.

SUMMARY: The Environmental Protection Agency has submitted an information collection request (ICR), Importation of Nonroad Engines and Recreational Vehicles (Renewal), (EPA ICR Number 1723.07, OMB Control Number 2060-0320), to the Office of Management and Budget (OMB) for review and approval in accordance with the Paperwork Reduction Act (44 U.S.C. 3501 et seq.). This is a proposed extension of the ICR, which is currently approved through December 31, 2014. Public comments were previously requested via the Federal Register (79 FR 37311) on July 1, 2014 during a 60-day comment period. EPA received one comment that was not directly relevant to this renewal. This notice allows for an additional 30 days for public comments. A fuller description of the ICR is given below, including its estimated burden and cost to the public. An Agency may not conduct or sponsor and a person is not required to respond to a collection of information unless it displays a currently valid OMB control number.

DATES: Additional comments may be submitted on or before January 22, 2015.

ADDRESSES: Submit your comments, referencing Docket ID No. EPA-HQ-OAR-2007-1138, to (1) EPA online using www.regulations.gov (our preferred method), by email to a-and-r-Docket@epa.gov, or by mail to: EPA Docket Center, Environmental Protection Agency, Mail Code 6102T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Holly Pugliese, Compliance Division, Office of Transportation and Air Quality, Environmental Protection Agency, 2000 Traverwood, Ann Arbor, Michigan 48105; telephone number: 734-214-4288; fax number: 734-214-4869; email address: pugliese.holly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This ICR covers the burden associated with EPA Form 3520-21, a declaration form for importers of nonroad vehicles or engines into the United States, which identifies the regulated category of engine or vehicle and the regulatory provisions under which the importation is taking place. In addition, this ICR covers the possible burden of EPA Form 3520-8 if it comes to be used to request final importation clearance for Independent Commercial Importers of nonroad Compression Ignition engines, who would have to bring the engines into compliance and provide test results, comparable to the use of Form 3520-8 for on-road vehicles and engines as covered by OMB 2060-0095. The information is used by Agency enforcement personnel to verify that all nonroad vehicles and engines subject to Federal emission requirements have been declared upon entry or that the category of exclusion or exemption from emissions requirements has been identified in the declaration. The information is used to identify and prosecute violators and to monitor the program in achieving the objectives of the regulations. Forms are required before making customs entry; see 19 CFR 12.73 and 12.74.

Form Number: 3520-21.

Frequency of response: Once per entry (one form per shipment may be used).

Respondents/affected entities: Individual importers, or companies who import and manufacture nonroad engines and recreational vehicles.

Respondent's obligation to respond: Required for any importer to legally import nonroad vehicles or engines into the U.S.

Estimated number of respondents: 12,000.

Total estimated burden: 6,029 hours (per year). Burden is defined at 5 CFR 1320.03(b).

Total estimated cost: $410,178 (per year), which includes $38,002 annualized capital or operation & maintenance costs.

Changes in Estimates: This is no change the total estimated respondent burden compared with the ICR currently approved by OMB.

Courtney Kerwin,
Acting Director, Collection Strategies Division.

[FR Doc. 2014-30016 Filed 12-22-14; 8:45 am]

BILLING CODE 6560-50-P